DEPARTMENT OF AGRICULTURE

Natural Resources Conservation Service

Highline Canal/Black Point Pipeline Project, UT; Environmental Statements

AGENCY: Natural Resources Conservation Service, USDA.

ACTION: Notice of availability.

SUMMARY: The Natural Resources Conservation Service (NRCS), has prepared an Environmental Assessment in compliance with the National Environmental Policy Act (NEPA), as amended, the implementing regulations for NEPA (40 CFR parts 1500-1508), and NRCS policy. The Highline Canal/Black Point Pipeline Project is a federally assisted action authorized as a Congressional Earmark. The Environmental Assessment was developed in coordination with Wayne County Commission and the Fremont River Irrigation Company. Upon review of the Environmental Assessment, the State Conservationist for NRCS, Utah, made a Finding of No Significant Impact (FONSI) and the determination was made that no environmental impact statement is required to support the project. Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Highline Canal/Black Point Pipeline Project. Written comments regarding this action may be submitted to: Sylvia Gillen, State Conservationist, USDA/NRCS, Wallace F. Bennett Federal Building, 125 South State Street, Room 4402, Salt Lake City, UT 84138-1100. Comments must be received no later than 30 days after this notice is published.

DATES: Effective Date: April 17, 2006.

FOR FURTHER INFORMATION CONTACT: Sylvia Gillen, State Conservationist, Natural Resources Conservation Service, Wallace F. Bennett Federal Building, 125 South State Street, Room 4402, Salt Lake City, Utah 84138-1100; telephone (801) 524-4550.

SUPPLEMENTARY INFORMATION: The Environmental Assessment of this federally assisted action documents that the project will not cause significant local, regional, state, or national impacts on the human environment. The findings of Sylvia Gillen, State Conservationist, indicate that the preparation and review of an environmental impact statement is not needed for this project.

The objectives of the proposed project are:

• To stop the earthen canal from leaking.

• To eliminate potential economic losses associated with a canal failure.

The proposed action is to pipe a 3880 foot section of the Highline Canal in the area of Black Point, a locally-named geologic landmark located northeast of the town of Loa in Wayne County, Utah. The existing earthen canal leaks and has failed a number of times in the past. The proposed action would replace the existing canal with a 60 inch diameter pipeline. A settling pond and inlet structure are also proposed to remove sediment and debris before it goes into the pipeline. Twenty-four acres of riparian restoration would occur along the Fremont River.

Copies of the FONSI and Environmental Assessment are available by request from Sylvia Gillen, Utah State Conservationist. Basic data developed during the environmental evaluation are on file and may be reviewed by contacting Sylvia Gillen, Utah State Conservationist. Requests may be submitted to: Sylvia Gillen, State Conservationist, Natural Resources Conservation Service, Wallace F. Bennett Federal Building, 125 South State Street, Room 4402, Salt Lake City, Utah 84138-1100; telephone (801) 524-4550.

No administrative action on implementation of this project will be taken until 30 days after the date of this notice is published.

(This activity is listed in the Catalog of Federal Domestic Assistance under No. 10.902, Soil and Water Conservation and Environmental Quality Incentive Program 10.912.)

Signed in Salt Lake City, Utah on April 7, 2006.
Sylvia A. Gillen,
State Conservationist.

[FR Doc. E6-5616 Filed 4-14-06; 8:45 am]

BILLING CODE 3410-16-P